DEPARTMENT OF THE INTERIOR

Bureau of Land Management

[5101 ER J206]

Notice of Request for Comments To Address Right-of-Way Applications Filed by Private Fuel Storage, LLC, for an Independent Spent Fuel Storage Installation on the Reservation of the Skull Valley Band of Goshute Indians and Related Transportation Facility in Tooele County, UT

AGENCY: Bureau of Land Management, Interior.

ACTION: Notice of request for comments.

SUMMARY: Notice is hereby given that the Bureau of Land Management (BLM) is requesting comments that will address right-of-way applications filed by Private Fuel Storage (PFS), LLC, for an independent spent fuel storage installation on reservation lands of the Skull Valley Band of Goshute Indians (Band or Skull Valley Band). The installation is described in an environmental impact statement (EIS) prepared by the Nuclear Regulatory Commission (NRC), entitled Final Environmental Impact Statement for the Construction and Operation of an Independent Spent Fuel Storage Installation on the Reservation of the Skull Valley Band of Goshute Indians and the Related Transportation Facility in Tooele County, Utah (December 2001). This EIS is available online at http://www.nrc.gov/reading-rm/doc-collections/nuregs/staff/sr1714/v1/. BLM was a cooperating agency in the preparation of this EIS, as were the Bureau of Indian Affairs (BIA), U.S. Department of the Interior, and the U.S. Surface Transportation Board. Your comments are sought pursuant to 40 CFR 1506.6(d).

DATES: The Bureau of Land Management should receive your comments by May 8, 2006.

ADDRESSES: You should address your comments to the attention of Pam Schuller, Bureau of Land Management, Salt Lake Field Office, 2370 S. 2300 W., Salt Lake City, Utah 84119.

FOR FURTHER INFORMATION CONTACT: Pam Schuller, Environmental Specialist, Salt Lake Field Office, 801-977-4356.

SUPPLEMENTARY INFORMATION: The applications filed by PFS seek rights-of-way under Title V of the Federal Land Policy and Management Act (FLPMA), 43 U.S.C. 1761, to transport spent nuclear fuel (SNF) across public lands managed by BLM. As proposed, the fuel would be transported by rail from an existing Union Pacific railroad site to a PFS facility on the Reservation of the Skull Valley Band of Goshute Indians in Tooele County, Utah. The fuel would be stored in aboveground canisters on the Reservation, awaiting eventual disposal at a permanent geologic repository currently proposed for Yucca Mountain, Nevada, or other, further storage at a location off the Reservation.

In order for PFS to construct a rail line and transport SNF to reservation lands, an amendment to BLM's Pony Express Resource Management Plan (RMP) would be necessary and PFS would need a right-of-way grant from BLM. An alternative to this rail line would involve construction of an intermodal transfer facility (ITF) on BLM lands. SNF would be transported by heavy-haul tractor/trailers to the reservation site under this alternative.

Your comments are necessary to assist BLM in reviewing the applications of PFS. Regulations recently revised by BLM at 43 CFR part 2804.26 (70 FR 21067 (April 22, 2005)) call for BLM to consider a number of factors in deciding whether to grant or deny an application for a right-of-way. Among these factors are (1) the project's consistency with BLM(s management of the public lands; (2) the public interest; (3) the applicant's qualifications to hold a grant; (4) the project's consistency with FLPMA, other laws, or regulations; (5) the applicant's technical or financial capability; and (6) the applicant's compliance with information requests. BLM will apply these standards to the PFS applications in light of the data in the applications and in the EIS. Certain recent developments also merit consideration, including statements by the Energy Department and PFS members, and Congressional action.

Public Law 109-163, the National Defense Authorization Act for Fiscal Year 2006, was signed by President Bush on January 6, 2006. 119 Stat. 3136. Section 384 of this Act designated certain lands as the Cedar Mountain Wilderness Area and withdrew these lands “from all forms of entry, appropriation, or disposal under the public land laws, from location, entry, and patent under the United States mining laws, and from disposition under all laws pertaining to mineral and geothermal leasing, and mineral materials, and all amendments to such laws.” These lands include the area described in PFS's application for a right-of-way for a rail line, but do not include the area described in PFS's application for a right-of-way for the ITF. Because a rail line would be incompatible with wilderness, designation of the Cedar Mountain Wilderness Area would appear to preclude the grant of a right-of-way for the proposed rail line and shift the focus of this project to the ITF alternative.

On October 26, 2005, Secretary of Energy Samuel W. Bodman stated that the PFS facility initiative is not part of the Energy Department's overall strategy for the management of SNF and high-level radioactive waste. The Secretary noted that the Energy Department would be prohibited by statute from providing funding or financial assistance to the initiative because the PFS facility would be constructed and operated by the private sector outside the scope of the Nuclear Waste Policy Act of 1982 (NWPA). The Energy Department will continue to work toward the successful development of Yucca Mountain as a permanent geologic repository for the Nation's high-level radioactive waste. Development of Yucca Mountain would reduce, if not eliminate, the need for high-level radioactive waste to go to a private temporary storage facility in Utah, the Secretary remarked.

Correspondence dated December 8, 2005, between the Chief Executive Officer of Xcel Energy and Senator Orrin Hatch indicates that Xcel Energy, the majority shareholder and most active proponent of the PFS project, will hold in abeyance future investments in the next phase of the PFS facility as long as there is progress in various initiatives toward federally sponsored interim storage, reuse, and/or disposal of the nation's spent nuclear fuel. The initiatives referred to include the Energy Department's examination of multi-purpose canister systems for Yucca Mountain; Congressional passage of the FY 2006 Energy and Water Development Act providing funds for grants to communities interested in hosting facilities that would accept and eventually recycle used fuel from civilian nuclear plants; and Congressional preparation of legislation that will promote the movement of waste early in the next decade.

Correspondence dated December 7, 2005, between the Chief Executive Officer of Southern Company and Senator Hatch indicates that Southern Company, one of eight members of the PFS consortium, will no longer support the PFS facility, having concluded that the PFS facility “cannot be successfully developed as a spent fuel repository in a time frame to meet Southern's needs.” Southern will continue to work toward ensuring the eventual opening of Yucca Mountain, to which it is committed as the nation's spent fuel repository. Southern Company was one of six members of PFS that in July 2002 announced that they would commit no funds to construction of the PFS facility past the licensing phase so long as the Yucca Mountain project is approved by Congress and repository development proceeds in a timely fashion.

Correspondence dated September 9, 2005, from the Utah Congressional delegation to Secretary of the Interior Gale Norton states that the proximity of the Goshute reservation to the Utah Test and Training Range makes it one of the most dangerous locations for the aboveground storage of high-level nuclear waste. The proposed storage site would sit within miles of the training range where 7,000 overflights of F-16s occur every year. Due to heavy commercial air traffic in the area, a principal low level approach by these F-16s passes directly over the proposed storage site. The aircraft sometimes use live ordnance, and 70 crashes of F-16s have occurred within the past 20 years at the Utah Test and Training Range, a number of these well outside the boundaries of the range.

In this same correspondence, the Congressional delegation states that NRC refused to reopen its EIS, dated December 2001, to consider the threat of deliberate suicide air attacks, even though post September 11 studies have been completed at all other facilities licensed by NRC. Moreover, the EIS does not require PFS to have any on-site means to handle damaged or breached casks. NRC staff concluded that the risk of a cask breach is so minimal that this scenario need not be considered in the EIS. At the delegation's urging, the Department of Homeland Security has consented to review the location of the proposed site to consider its national security implications.

This Congressional correspondence of September 9, 2005, further states that “the issuance of a license for a private away-from-reactor storage site has never been done and in our view runs counter to the Nuclear Waste Policy Act, which limits the NRC to license storage sites only at federal facilities or onsite at nuclear power plants.”

Finally, in correspondence with Senator Hatch, dated July 8, 2002, Secretary of Energy Spencer Abraham concluded that the NWPA authorizes DOE to provide funding and financial assistance only for shipments of spent fuel to a facility constructed under that act. The Secretary found that the PFS/Goshute facility would be constructed outside the scope of the act, and as a result DOE would not fund or otherwise provide financial assistance for PFS. Nor could DOE monitor the safety precautions that a private facility may install. All costs associated with the PFS plan would have to be covered by the members of the PFS private consortium, the Secretary concluded.

The proposed action (Alternative 1) involves the construction and operation of the proposed PFS facility at a site designated as Site A in the northwest corner of the Skull Valley Indian Reservation and a new rail line connecting the existing Union Pacific railroad to the site. The proposed facility would be designed to store a lifetime capacity of up to 40,000 metric tons of uranium (MTU) (44,000 tons) of spent nuclear fuel. SNF is the primary by-product from a nuclear reactor. The capacity of the proposed facility would be sufficient to store all SNF from reactor sites owned by PFS members, as well as SNF from reactor sites that are not owned by PFS members.

PFS is a limited liability company owned by eight U.S. electric power generating companies. These companies are: Entergy Corporation; Southern California Edison Company; Genoa FuelTech, Inc.; Indiana-Michigan Company (American Electric Power); Florida Power and Light Company; GPU Nuclear Corporation; Xcel Energy Inc.; and Southern Nuclear Operating Company.

Construction of the proposed PFS facility would occur in three phases. Phase 1 construction, which would provide an operational facility, is planned to begin upon issuance of a license by the NRC and certification by the Secretary that the conditions under which a May 1997 lease between PFS and the Band was approved have been satisfied. The maximum term of the lease is 50 years. About one-fourth of the storage area for the proposed facility would be constructed during Phase 1, which would be completed in approximately 18 months. Another one-fourth would be completed during Phase 2, and the remaining portion constructed during Phase 3. The maximum amount of SNF that PFS could accept at the proposed facility over the term of the initial license and the proposed lease is 40,000 MTU. Once PFS had accepted 40,000 MTU of SNF, it could not accept any additional shipments, even if it had begun to ship the SNF off site.

SNF to be shipped to the proposed PFS facility would be placed inside sealed metal canisters at commercial nuclear power plants. These canisters would then be placed inside NRC-certified steel shipping casks for transport by rail to the new rail siding at Skunk Ridge. Dedicated trains, stopping only for crew changes, refueling, and periodic inspections, would be used to transport SNF from the existing reactor sites to Skull Valley. PFS expects that it would receive 1 to 2 trains, each carrying 2 to 4 shipping casks, per week from the reactor sites. The number of loaded SNF canisters (inside shipping casks) is estimated to be between 100 and 200 annually. Each canister would contain approximately 10 MTU of SNF.

The nearest main rail line is approximately 39 km (24 miles) north of the proposed site. PFS's preferred option for transporting SNF from the existing Union Pacific main line railroad to the site is to build a new rail line to the site. The new rail line, and its associated rail siding, would connect to the existing Union Pacific main rail line at Skunk Ridge (near Low, Utah). The proposed right-of-way for the rail corridor would be 51 km (32 miles) long and 60 m (200 ft) wide. It would run to the proposed PFS facility through public lands administered by BLM on the eastern side of the Cedar Mountains. Because these public lands are outside a transportation and utility corridor described in BLM's Pony Express RMP, an amendment to this RMP would be necessary before BLM could issue a right-of-way. Any amendment to this RMP would also await compliance by the Department of Defense with certain reporting duties under section 2815 of the National Defense Authorization Act for FY 2000, Pub. L. 106-65.

As noted above, designation of the Cedar Mountain Wilderness Area by Congress in Pub. L. 109-163 appears to preclude the grant of a right-of-way for the rail line in Alternative 1.

At the proposed PFS facility, a dry cask storage technology would be used. The sealed metal canisters containing the SNF would be unloaded from the shipping casks at the proposed PFS facility, loaded into steel-and-concrete storage casks, and then placed on concrete pads for aboveground storage. The canister-based cask system for confining the SNF would be certified by NRC in accordance with NRC requirements (10 CFR part 72). PFS proposes to employ the Holtec HI-STORM dual-purpose canister-based cask system for use at the proposed PFS facility. PFS anticipates storing as many as 4,000 sealed metal canisters inside individual storage casks, to store a maximum of 40,000 MTU of SNF.

The proposed PFS facility would be licensed by NRC to operate for up to 20 years. The applicant has indicated that it may seek to renew the license for 20 years (total of 40 years). By the end of the licensed life of the proposed PFS facility and prior to the expiration of the lease, it is expected that the SNF would have been shipped to a permanent repository. Service agreements (i.e., contracts) between PFS and companies storing SNF at the proposed PFS facility will require that the utilities remove all SNF from the proposed PFS facility by the time the PFS license has terminated and PFS has completed its licensing or regulatory obligations under the NRC license. The service agreement requirement to remove the SNF from the proposed PFS facility is not dependent upon the availability of a permanent geological repository. Therefore, if the PFS license is terminated or revoked prior to the availability of a permanent geological repository, the reactor licensees storing SNF at the PFS facility would continue to retain responsibility for the fuel and must remove it from the proposed PFS facility before license termination.

At the end of its useful life (or upon termination of the lease with the Band or termination of the NRC license, whichever comes first), the proposed PFS facility would be closed. As a condition of the lease with the Band and as required by NRC regulations, decommissioning of the proposed PFS facility would be required prior to closure of the facility and termination of the NRC license. Although the exact nature of decommissioning cannot be predicted at this time, the principal activities involved in decommissioning would include:

1. Removal of all remaining SNF from Skull Valley;

2. Removal or disposition of all storage casks;

3. Removal or disposition of the storage pads and crushed rock, at the option of the Band and the BIA; and

4. Removal of the buildings and other improvements or their transfer to the Band, at the option of the Band and the BIA.

The objective of the radiological decommissioning would be to remove all materials having levels of radioactivity above the applicable NRC limits in order for the site to be released for unrestricted use. The SNF contained inside sealed metal canisters would be transferred to licensed shipping casks for transportation away from Skull Valley.

At the option of the Band, non-radiological decommissioning and restoration of the facility may include the removal of structures and reasonably returning the land to its original condition. The future of the buildings and other improvements to be constructed by PFS on the Reservation is to be determined by the Band and the BIA. PFS is obligated to remove the buildings and other improvements at the request of the Band. PFS will collect sufficient advanced funding or provide other financial assurances to accomplish any or all of the non-radiological decommissioning. If the Band chooses to retain any or all of the buildings and other improvements once the radiological decommissioning is complete, it has the right to receive a transfer from PFS in an “intact” condition. The future use of any buildings and other improvements not removed by PFS, including the soil-concrete mixture below the pads, would be at the discretion of the Band. Any impacts associated with such use would be evaluated by a separate NEPA review. The proposed lease requires that the SNF be removed from the Reservation before the end of the lease term.

Alternative 2 involves constructing the proposed PFS facility at an alternative location (Site B) on the Reservation. This site is located about 800 m (0.5 mile) south of the proposed Site A and is similar in terms of its environmental characteristics to the proposed site. Under this alternative, a new rail line would be constructed across BLM lands from Skunk Ridge. The rail corridor through Skull Valley would be essentially identical to the one for the proposed action, but it would be about 1.6 km (1 mile) longer due to the slightly greater distance of Site B from the existing main rail line. From BLM's perspective, Alternative 2 would require amendment of the Pony Express RMP and the authorization of a right-of-way across public lands for the construction and operation of a new rail line. Amendment of the Pony Express RMP would involve the Defense Department's compliance with section 2815(b) of the National Defense Authorization Act for FY 2000. Because the rail line is essentially the same as that involved in Alternative 1, designation of the Cedar Mountain Wilderness Area in Pub. L. 109-163 appears to preclude the grant of a right-of-way for the rail line in Alternative 2.

Alternative 3 involves constructing the proposed PFS facility at Site A, but transportation of SNF from the existing Union Pacific main rail line to the site would be accomplished by heavy-haul tractor/trailers. An ITF and rail siding would be built on land managed by BLM at the existing main rail line near Timpie, Utah, to transfer SNF shipping casks from rail cars to the heavy-haul vehicles, which would then transport the SNF along the existing Skull Valley Road to the site. No rail line would be built under this alternative.

The ITF would occupy 9-11 acres of BLM land approximately 2 miles west of the intersection of I-80 and Skull Valley Road and outside of the lands designated in Pub. L. 109-163 as the Cedar Mountain Wilderness Area. It would consist of three rail sidings, a new access road for heavy-haul vehicles, and a building with a crane for transferring SNF shipping casks from rail cars onto heavy-haul tractor/trailers. PFS has filed an application for a right-of-way from BLM to use this land. The ITF would not require an amendment to the Pony Express RMP. The ITF would occupy previously disturbed land lying between the existing Union Pacific Railroad and Interstate 80. SNF would arrive at the ITF by rail using the Union Pacific rail line. The crane would load the fuel from the rail cars onto heavy-haul tractor/trailers, which would use the existing Skull Valley road to carry the fuel south to the PFS facility on the Goshute Reservation, a distance of approximately 26 miles. From BLM's perspective, Alternative 3 involves the authorization of a right-of-way to occupy public lands for the ITF; no RMP amendment would be necessary.

Alternative 4 involves constructing the PFS facility at Site B on reservation lands and transportation of SNF by heavy-haul tractor/trailers. As in alternative 3, PFS would seek a right-of-way to authorize use of an ITF on BLM lands. No rail corridor would be constructed under this alternative, and no amendment of BLM's RMP would be necessary.

Under the no action alternative, no PFS facility or transportation facilities would be built in Skull Valley. Under this alternative, NRC would deny the application for a license for the proposed PFS facility, and no certification by the Secretary of lease conditions would occur. From BLM's perspective, the right-of-way applications filed by PFS would be denied. The Band would be free to pursue alternative uses for the land in the northwest corner of the Reservation.

Jim Hughes,
Deputy Director.

[FR Doc. E6-1595 Filed 2-6-06; 8:45 am]

BILLING CODE 4310-22-P